LIBRARY OF CONGRESS

Copyright Royalty Board

37 CFR Chapter III

[Docket No. 19-CRB-0014-RM]

Notice of Inquiry Regarding Categorization of Claims for Cable or Satellite Royalty Funds and Treatment of Ineligible Claims; Extension of Comment Period

AGENCY: Copyright Royalty Board, Library of Congress.

ACTION: Notice of inquiry; extension of comment period; correction.

SUMMARY: The Copyright Royalty Judges published a document in the Federal Register of January 29, 2020, concerning extension of a comment period for comments regarding categorization of claims for cable or satellite royalty funds and treatment of royalties associated with invalid claims. The document contained an incorrect date in the summary.

Correction

In the Federal Register of January 29, 2020, in FR Doc. 2020-01544, on page 5182, in the first column, correct the SUMMARY to read:

The Copyright Royalty Judges extend the comment period regarding the notice of inquiry regarding categorization of claims for cable or satellite royalty funds and treatment of royalties associated with invalid claims from January 29, 2020, to March 16, 2020.

Dated: January 29, 2020.
Jesse M. Feder,
Chief Copyright Royalty Judge.

[FR Doc. 2020-02071 Filed 2-3-20; 8:45 am]

BILLING CODE 1410-72-P